DEPARTMENT OF AGRICULTURE

Rural Utilities Service

7 CFR Part 1739

RIN 0572-AC09

Community Connect Broadband Grant Program

AGENCY: Rural Utilities Service, USDA.

ACTION: Notice of confirmation of direct final rule.

SUMMARY: The Rural Utilities Service, an agency delivering the United States Department of Agriculture (USDA) Rural Development Utilities Programs, hereinafter referred to as Rural Development and/or the Agency, gives notice that no adverse comments were received regarding the direct final rule amending its regulations to update the eligibility criteria for the Community Connect Broadband Grant Program (Community Connect Grant Program) requirements of the Agency, and confirms the effective date of the direct final rule.

DATES: The direct final rule published in the Federal Register on August 3, 2007 (72 FR 43132), will be effective on September 17, 2007.

FOR FURTHER INFORMATION CONTACT: Kenneth Kuchno, Director, Broadband Division, USDA Rural Development, 1400 Independence Avenue, SW., STOP 1599, Washington, DC 20250-1599. Telephone: (202) 690-4673. Fax: (202) 690-4389. E-mail Address: Kenneth.kuchno@usda.gov.

SUPPLEMENTARY INFORMATION:

Background

The USDA Rural Development Utilities Programs (the Agency) improves the quality of life in rural America by providing investment capital, in the form of loans and grants, for the deployment of rural telecommunications infrastructure. Financial assistance is provided to rural utilities; municipalities; commercial corporations; limited liability companies; public utility districts; Indian tribes; and cooperative, nonprofit, limited-dividend, or mutual associations. In order to achieve the goal of increasing economic opportunity in rural America, the Agency finances infrastructure that enables access to a seamless, nation-wide telecommunications network. With access to the same advanced telecommunications networks of its urban counterparts, especially broadband networks designed to accommodate distance learning, telework and telemedicine, rural America will see improving educational opportunities, health care, economies, safety and security, and ultimately higher employment. Of particular concern to the Agency are communities where broadband service is not available and where population densities are such that the cost of deployment to them is high and build-out of infrastructure is unlikely. The Agency is committed to ensuring rural communities will have access to affordable, reliable, advanced communications services, comparable to those available throughout the rest of the United States, to provide a healthy, safe and prosperous place to live and work. The Community Connect Grant Program was started as a Pilot Program with the Fiscal Year 2002 budget and has been funded ever since through the appropriations process. After administering the program as a pilot program for two years, the Agency proposed rules for the program, and on July 28, 2004, the current rules were published, and the program was formally implemented. Since then more than 670 requests for grant funds totaling over $410 million were requested through Fiscal Year 2006. Of those requests, 129 were granted for $57 million to bring broadband service to 129 communities in 26 states and Puerto Rico. While the Agency is proud of the results achieved in the Community Connect Grant Program thus far, it believes that the overall effectiveness of the program can be improved by modifying the existing rules. Through these changes, the Agency is increasing eligibility criteria to include communities that clearly meet the intent of the program. Specifically, this rule will: (1) Add the Rand McNally Atlas as a community locator; (2) change the income measure for eligibility from a national comparison to a state comparison; and (3) clarify the items that are eligible to be considered as operating expenses.

Confirmation of Effective Date

This is to confirm the effective date of September 17, 2007, for the direct final rule 7 CFR 1739, Community Connect Grant Program, published in the Federal Register on August 3, 2007.

Dated: September 11, 2007.
James M. Andrew,
Administrator, Rural Utilities Service.

[FR Doc. E7-18272 Filed 9-14-07; 8:45 am]

BILLING CODE 3410-15-P